ENVIRONMENTAL PROTECTION AGENCY

[EPA-HQ-OPP-2010-0265; FRL-8833-3]

Petition from Pesticide Poisoning Victims United; Notice of Availability; Extension of Comment Period

AGENCY: Environmental Protection Agency (EPA).

ACTION: Notice; extension of comment period.

SUMMARY: EPA issued a notice in the Federal Register of April 28, 2010, concerning a petition from Pesticide Poisoning Victims United that asks the Agency to undertake a number of actions to protect potentially affected individuals in Lane County, OR from pesticides applied to surrounding forestlands. This document extends the comment period for 45 days, from June 28, 2010, to August 12, 2010.

DATES: Comments, identified by docket identification (ID) number EPA-HQ-OPP-2010-0265, must be received on or before August 12, 2010.

ADDRESSES: Follow the detailed instructions as provided under ADDRESSES in the Federal Register document of April 28, 2010.

FOR FURTHER INFORMATION CONTACT: Jill Bloom, Pesticide Re-evaluation Division, Office of Pesticide Programs, Environmental Protection Agency, 1200 Pennsylvania Ave., NW., Washington, DC 20460-0001; telephone number: (703) 308-8019; e-mail address: bloom.jill@epa.gov.

SUPPLEMENTARY INFORMATION: This document extends the public comment period established in the Federal Register of April 28, 2010 (75 FR 22401) (FRL-8822-8). EPA is hereby extending the comment period, which was set to end on June 28, 2010, to August 12, 2010.

To submit comments, or access the docket, please follow the detailed instructions as provided under ADDRESSES in the April 28, 2010 Federal Register document. If you have questions, consult the person listed under FOR FURTHER INFORMATION CONTACT.

List of Subjects

Environmental protection, Pesticides, and Pests.

Dated: June 23, 2010.
Richard P. Keigwin, Jr.,
Director, Pesticide Re-evaluation Division, Office of Pesticide Programs.

[FR Doc. 2010-15719 Filed 6-25-10; 8:45 am]

BILLING CODE 6560-50-S